DEPARTMENT OF ENERGY

Federal Energy Regulatory Commission

[Docket No. EC05-30-000, et al.]

Aquila, Inc., et al.; Electric Rate and Corporate Filings

January 3, 2005.

The following filings have been made with the Commission. The filings are listed in ascending order within each docket classification.

1. Aquila, Inc. and Aquila Long Term, Inc.

[Docket No. EC05-30-000]

Take notice that on December 28, 2004, Aquila, Inc. and Aquila Long Term, Inc. (collectively, Applicants) tendered for filing an Application for Authorization to Transfer Jurisdictional Facilities to South Mississippi Electric Power Association, pursuant to Part 33 of the Commission's Regulations. Applicants request privileged treatment for Exhibit I of the Application pursuant to section 388.112 and 33.9 of the Commission's regulations.

Comment Date: 5 p.m. eastern time on January 18, 2005.

2. ESI Energy, LLC, Energy National Wind, LLC, Backbone Windpower Holdings, LLC, ESI Vansycle GP, Inc., ESI Vansycle LP, Inc., FPL Energy North Dakota Wind, LLC, FPL Energy North Dakota Wind II, LLC, FPL Energy Oklahoma Wind, LLC, FPL Energy Pennsylvania Wind, LLC, FPL Energy Sooner Wind, LLC, FPL Energy South Dakota Wind, LLC, FPL Energy Waymart GP, LLC, FPL Energy Waymart LP, LLC, FPL Energy Wyoming, LLC, Meyersdale Windpower, LLC and Uinta County Wind Farm L.L.C.

[Docket No. EC05-31-000]

Take notice that on December 29, 2004, ESI Energy, LLC, FPL Energy National Wind, LLC, Backbone Windpower Holdings, LLC, ESI Vansycle GP, Inc., ESI Vansycle LP, Inc., FPL Energy North Dakota Wind, LLC, FPL Energy North Dakota Wind II, LLC, FPL Energy Oklahoma Wind, LLC, FPL Energy Pennsylvania Wind, LLC, FPL Energy Sooner Wind, LLC, FPL Energy South Dakota Wind, LLC, FPL Energy Waymart GP, LLC, FPL Energy Waymart LP, LLC, FPL Energy Wyoming, LLC, Meyersdale Windpower, LLC and Uinta County Wind Farm L.L.C. (jointly, Applicants) pursuant to section 203 of the Federal Power Act, filed a joint application for approval of an intra-corporate reorganization. Applicants state that the proposed reorganization will not change the ultimate ownership of the facilities directly or indirectly owned by the Applicants.

Applicants state that a copy of the application has been served on the public utility commissions in the states where the facilities are located.

Comment Date: 5 p.m. eastern time on January 19, 2005.

3. Puget Sound Energy, Inc.; Encogen Northwest, L.P.

[Docket No. EC05-32-000]

Take notice that on December 29, 2004, Puget Sound Energy, Inc. (Puget) and Encogen Northwest, L.P. (Encogen) filed with the Federal Energy Regulatory Commission, pursuant to section 203 of the Federal Power Act, a Request for Authorization to Transfer Jurisdictional Assets with respect to the transfer to Puget of Encogen's 170 MW cogenerating facility located in Bellingham, Washington.

Comment Date: 5 p.m. eastern time on January 19, 2005.

4. SE Holdings, LLC

[Docket No. ER96-3107-014]

Take notice that on December 20, 2004, Strategic Energy, LLC submitted a Notification of Change in Status that reflects a departure from the facts relied upon by the Commission in granting market-based rate authority.

Comment Date: 5 p.m. eastern time on January 10, 2005.

5. Millennium Power Partners, L.P.

[Docket Nos. ER98-830-010 and ER05-397-000]

Take notice that on December 22, 2004, Millennium Power Partners, L.P. (Millennium) submitted its triennial market power report pursuant to Acadia Power Partners, LLC, et al., 107 FERC ¶ 61,168 (2004), as well as its revised Market-Based Rate Tariff to incorporate the Market Behavior Rules as required by the Commission and to allow for the (1) sale of Ancillary Services; (2) resale of Firm Transmission Rights, Transmission Congestion Contracts, Fixed Transmission Rights, Auction Revenue Rights, or similar instruments; and (3) reassignment of transmission capacity.

Millennium states that copies of the filing were served on parties on the official service list for Docket No. ER98-830.

Comment Date: 5 p.m. eastern time on January 12, 2005.

6. Kincaid Generation, L.L.C.

[Docket No. ER99-1432-004]

Take notice that on December 28, 2004, Kincaid Generation, L.L.C. (KGL) tendered for filing revised tariff sheets to its market-based rate tariff, FERC Electric Tariff, Second Revised Volume No. 1, to change the issuing officer and to correct the corporate name in the header and footer. KGL requests an effective date of December 17, 2003.

KGL states that copies of the filing were served upon the public utility's jurisdictional customers and Virginia State Corporation Commission, Ohio Public Utilities Commission, the Public Service Commission of West Virginia and the Pennsylvania Public Service Commission.

Comment Date: 5 p.m. eastern time on January 18, 2005.

7. American Ref-Fuel Company of Niagara, L.P.

[Docket No. ER01-1302-004]

Take notice that on December 29, 2004, American Ref-Fuel Company of Niagara, L.P. (ARC-Niagara) tendered for filing a triennial market power analysis pursuant to the Commission's order granting ARC-Niagara market-based rate authority.

ARC-Niagara states that a copy of this filing was served on the New York State Public Service Commission.

Comment Date: 5 p.m. eastern time on January 19, 2005.

8. In the matter of: ER02-2559-002, ER01-1071-003, ER02-669-004, ER02-2018-004, ER01-2074-003, ER90-80-002, ER98-2494-005, ER97-3359-006, ER00-3068-003, ER03-34-002, ER98-3511-007, ER02-1903-003, ER98-3562-007, ER99-2917-004, ER03-179-004, ER02-2166-003, ER98-3566-010, ER02-1838-003, ER01-838-003, ER98-3563-007, ER98-3564-007, ER01-1972-003, ER98-2076-006, ER03-155-003, ER03-623-003, ER98-4222-002, ER01-1710-003, ER01-2139-004, and ER98-1965-003; Backbone Mountain Windpower, LLC, Badger Windpower, LLC, Bayswater Peaking Facility, LLC, Blythe Energy, LLC, Calhoun Power Company I, LLC, Doswell Limited Partnership, ESI Vansycle Partners, L.P., Florida Power & Light Co., FPL Energy Cape, LLC, FPL Energy Hancock County Wind, LLC, FPL Energy Maine Hydro, Inc., FPL Energy Marcus Hook, L.P., FPL Energy Mason, LLC, FPL Energy MH 50, LP, FPL Energy New Mexico Wind, LLC, FPL Energy Pennsylvania Wind, LLC, FPL Energy Power Marketing, Inc., FPL Energy Seabrook, LLC, FPL Energy Vansycle, LLC, FPL Energy Wyman, LLC, FPL Energy Wyman IV, LLC, Gray County Wind Energy, LLC, Hawkeye Power Partners, LLC, High Winds, LLC, Jamaica Bay Peaking Facility, LLC, Lake Benton Power Partners II, LLC, Mill Run Windpower, LLC, Somerset Windpower, LLC, and West Texas Wind Energy Partners, LP.

Take notice that, on December 22, 2004, Backbone Mountain Windpower, LLC, Badger Windpower, LLC, Bayswater Peaking Facility, LLC, Blythe Energy, LLC, Calhoun Power Company I, LLC, Doswell Limited Partnership, ESI Vansycle Partners, L.P., Florida Power & Light Company, FPL Energy Cape, LLC, FPL Energy Hancock County Wind, LLC, FPL Energy Maine Hydro, Inc., FPL Energy Marcus Hook, L.P., FPL Energy Mason, LLC, FPL Energy MH 50, LP, FPL Energy New Mexico Wind, LLC, FPL Energy Pennsylvania Wind, LLC, FPL Energy Power Marketing, Inc., FPL Energy Rhode Island Energy, L.P., FPL Energy Seabrook, LLC, FPL Energy Vansycle, LLC, FPL Energy Wyman, LLC, FPL Energy Wyman IV, LLC, Gray County Wind Energy, LLC, Hawkeye Power Partners, LLC, High Winds, LLC, Jamaica Bay Peaking Facility, LLC, Lake Benton Power Partners II, LLC, Mill Run Windpower, LLC, Somerset Windpower, LLC, and West Texas Wind Energy Partners, LP (collectively, Applicants) submitted a revised market-based rate three-year update filing pursuant to the Commission Order Implementing New Generation Market Power Analysis and Mitigation Procedures, issued May 13, 2004 in Docket Nos. ER04-1406-001, et al., 107 FERC ¶ 61,168 (2004).

Applicants state that copies of the filing were served on parties on the official service list in the above-captioned proceedings, the Florida Public Service Commission and the New Hampshire Public Utilities Commission.

Comment Date: 5 p.m. eastern time on January 12, 2005.

9. Delmarva Power & Light Company

[Docket Nos. ER04-509-003, and ER04-1250-002]

Take notice that on December 29, 2004, Delmarva Power & Light Company (Delmarva), tendered for filing an amendment to its September 24, 2004 filing in Docket Nos. ER04-509-001 and ER04-1250-000. Delmarva states that the amendment was filed in response to a deficiency letter regarding the September 24, 2004 filing issued on November 23, 2004.

Comment Date: 5 p.m. eastern time on January 19, 2005.

10. California Independent System Operator Corporation

[Docket No. ER05-333-000]

Take notice that on December 14, 2004, the California Independent System Operator Corporation (ISO) tendered for filing an amended and restated NCPA MSS Aggregator Agreement (MSSAA) between the ISO and Northern California Power Agency (NCPA). The ISO requests privileged treatment of portions of the filing. The ISO is requesting an effective date of January 1, 2005.

The ISO states that the non-privileged elements of this filing have been served on NCPA, the California Public Utilities Commission, the California Electricity Oversight Board, and all entities that are on the official service lists for Docket Nos. ER02-2321, ER03-1119, ER04-1020, and ER04-690.

Comment Date: 5 p.m. eastern time on January 13, 2005.

11. Northeast Utilities Service Company

[Docket No. ER05-385-000]

Take notice that on December 28, 2004, Northeast Utilities Service Company (NUSCO), on behalf of The Connecticut Light and Power Company, Western Massachusetts Electric Company, Holyoke Water Power Company and Public Service Company of New Hampshire, submitted a Notice of Cancellation of the rate schedules for sales of electricity to the Town of Danvers Electric Division (Danvers), Littleton Electric Light Department (Littleton), Mansfield Municipal Electric Department (Mansfield), and UNITIL Power Corporation (UNITIL). NUSCO requests that the rate schedule terminations be effective as of October 31, 2004, the date on which the rate schedules terminated by their own terms.

NUSCO states that a copy of this filing has been mailed to Danvers, Littleton, Mansfield, UNITIL, and Select Energy, Inc.

Comment Date: 5 p.m. eastern time on January 18, 2005.

12. PJM Interconnection, L.L.C.

[Docket No. ER05-387-000]

Take notice that on December 28, 2004, PJM Interconnection, L.L.C. (PJM), submitted for filing an executed interim interconnection service agreement among PJM, Conectiv Delmarva Generation, Inc., and Delmarva Power & Light Company d/b/a Conectiv Power Delivery. PJM requests an effective date of November 30, 2004.

PJM states that copies of this filing were served upon the parties to the agreement and the state regulatory commissions within the PJM region.

Comment Date: 5 p.m. eastern time on January 18, 2005.

13. PJM Interconnection, L.L.C.

[Docket No. ER05-388-000]

Take notice that on December 28, 2004, PJM Interconnection, L.L.C. (PJM), submitted for filing an executed interim interconnection service agreement (Interim ISA) among PJM, Conectiv Delmarva Generation, Inc., and Delmarva Power & Light Company d/b/a Conectiv Power Delivery. PJM requests an effective date of November 30, 2004.

PJM states that copies of this filing were served upon the parties to the agreement and the state regulatory commissions within the PJM region.

Comment Date: 5 p.m. eastern time on January 18, 2005.

14. PJM Interconnection, L.L.C.

[Docket No. ER05-389-000]

Take notice that on December 28, 2004, PJM Interconnection, L.L.C. (PJM), submitted for filing an executed interim interconnection service agreement among PJM, Exelon Generation Company L.L.C., and PECO Energy Company, designated as Original Service Agreement No. 1198 under PJM's FERC Electric Tariff, Sixth Revised Volume No. 1. PJM requests an effective date of November 29, 2004.

PJM states that copies of this filing were served upon the parties to the agreement and the state regulatory commissions within the PJM region.

Comment Date: 5 p.m. eastern time on January 18, 2005.

15. Pacific Gas and Electric Company

[Docket No. ER05-390-000]

Take notice that on December 29, 2004, Pacific Gas and Electric Company (PG&E) submitted a Revised Interconnection Agreement between PG&E and the Turlock Irrigation District (TID) designated as Pacific Gas and Electric Company, Second Revised Rate Schedule FERC No. 213. PG&E requests an effective date of March 1, 2005.

PG&E states that copies of the filing were served upon the TID, the California Public Utilities Commission and the California Independent System Operator Corporation.

Comment Date: 5 p.m. eastern time on January 19, 2005.

16. Progress Ventures, Inc.

[Docket No. ER05-391-000]

Take notice that on December 29, 2004, Progress Ventures, Inc. (Progress Ventures) submitted a Cost-based Sales Tariff for Short-term Sales of Capacity and Energy, designated as Progress Ventures, Inc., FERC Electric Tariff, Original Volume No. 2. Progress Ventures requests an effective date of June 14, 2004.

Progress Ventures states that copies of the filing were served upon the Florida Public Service Commission, the North Carolina Utilities Commission and affected customers.

Comment Date: 5 p.m. eastern time on January 19, 2005.

17. American Electric Power Service Corporation

[Docket No. ER05-392-000]

Take notice that on December 29, 2004, the American Electric Power Service Corporation (AEPSC), tendered for filing an Interconnection and Local Delivery Service Agreement designated as Original Service Agreement No. 621, under the Operating Companies of the American Electric Power System's FERC Electric Tariff, Third Revised Volume No. 6. AEPSC requests an effective date of December 1, 2004.

Comment Date: 5 p.m. eastern time on January 19, 2005.

18. El Paso Electric Company Public Service, Company of New Mexico and Texas-New Mexico Power Company

[Docket No. ER05-393-000]

Take notice that on December 29, 2004, El Paso Electric Company, Public Service Company of New Mexico, and Texas-New Mexico Power Company (collectively, the Parties) submitted the New Mexico Transmission Operating Procedures and First Revised Restated Letter of Understanding. The Parties request an effective date of January 1, 2005.

The Parties state that copies of the agreement were served on Tri-State Generation and Transmission Association, Inc., the only other party to the agreements.

Comment Date: 5 p.m. eastern time on January 19, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-55 Filed 1-10-05; 8:45 am]

BILLING CODE 6717-01-P